DEPARTMENT OF HOMELAND SECURITY

Coast Guard

[Docket No. USCG-2018-0704]

Great Lakes Pilotage Advisory Committee

AGENCY: U.S. Coast Guard, Department of Homeland Security.

ACTION: Notice of Federal Advisory Committee meeting.

SUMMARY: The Great Lakes Pilotage Advisory Committee will meet in Cape Vincent, New York, to discuss Committee matters relating to Great Lakes pilotage, including review of proposed Great Lakes pilotage regulations and policies. The meeting will be open to the public.

DATES:

Meeting: The Great Lakes Pilotage Advisory Committee will meet on Monday, September 10, 2018, from 8 a.m. to 5:30 p.m. EDT. Please note that this meeting may adjourn early if the Committee has completed its business.

Comments and supporting documents: To ensure your comments are received by Committee members before the meeting, submit your written comments no later than September 4, 2018.

ADDRESSES: The meeting will be held at a location owned and operated by Saint Lawrence Seaway Pilots Association, 230 N Point Street, Cape Vincent, New York 13618. https://seawaypilots.com/.

Pre-registration Information: Pre-registration is not required for access.

All attendees will be required to provide a government-issued picture identification card in order to gain admittance to the building.

For information on facilities or services for individuals with disabilities or to request special assistance at the meeting, contact the individual listed in the FOR FURTHER INFORMATION CONTACT section of this notice.

Instructions: You are free to submit comments at any time, including orally at the meetings, but if you want Committee members to review your comment before the meetings, please submit your comments no later than September 4, 2018. We are particularly interested in comments on the issues in the “Agenda” section below. You must include the words “Department of Homeland Security” and the docket number USCG-0704. Written comments may also be submitted using the Federal e-Rulemaking Portal at http://www.regulations.gov. If you encounter technical difficulties with comment submission, contact the individual listed in the FOR FURTHER INFORMATION CONTACT section below. Comments received will be posted without alteration at http://www.regulations.gov, including any personal information provided. You may review the Privacy and Security Notice for the Federal Docket Management System at https://www.regulations.gov/privacyNotice.

Docket Search: For access to the docket or to read documents or comments related to this notice, go to http://www.regulations.gov, and use “USCG-2018-0704” in the “Search” box, press Enter, and then click on the item you wish to view.

FOR FURTHER INFORMATION CONTACT: Mr. Vincent Berg, Alternate Designated Federal Officer of the Great Lakes Pilotage Advisory Committee, telephone (202) 906-0835, or email Vincent.F.Berg@uscg.mil.

SUPPLEMENTARY INFORMATION: Notice of this meeting is in compliance with the Federal Advisory Committee Act, Title 5, U.S.C. Appendix. The Great Lakes Pilotage Advisory Committee is established under the authority of 46 U.S.C. 9307, and makes recommendations to the Secretary of Homeland Security and the Coast Guard on matters relating to Great Lakes pilotage, including review of proposed Great Lakes pilotage regulations and policies.

Agenda: The Great Lakes Pilotage Advisory Committee will meet on Monday, September 10, 2018 to review, discuss, deliberate and formulate recommendations, as appropriate, on the following topics:

1. Annual rulemakings and financial reports—uniform system of accounts and uniform auditing practices;

2. Target pilot compensation study;

3. Use of the 10-year rolling average of traffic;

4. Weighting factors application to charges;

5. Itemized source form;

6. Working capital fund;

7. Pilot association projects;

8. Pilot association compensation practices;

9. Pilot association training for applicants and partners;

10. Labor disputes/6-hour rule;

11. Temporary registration;

12. Billing disputes/process;

13. Tug usage;

14. Competitive pilotage;

15. Recuperative rest for pilots;

16. Legislative changes;

17. Lake Ontario/Saint Lawrence River Traffic Challenges;

18. Public comment period.

A copy of all meeting documentation will be available at https://dco.uscg.afpims.mil/Our-Organization/Assistant-Commandant-for-Prevention-Policy-CG-5P/Marine-Transportation-Systems-CG-5PW/Office-of-Waterways-and-Ocean-Policy/Office-of-Waterways-and-Ocean-Policy-Great-Laskes-Pilotage-Div/ by September 4, 2018. Alternatively, you may contact Mr. Vincent Berg as noted in the FOR FURTHER INFORMATION CONTACT section above.

Public comments or questions will be taken throughout the meeting as the Committee discusses the issues and prior to deliberations and voting. There will also be a public comment period at the end of the meeting. Speakers are requested to limit their comments to 5 minutes. Please note that the public comment period will end following the last call for comments. Contact the individual listed in the FOR FURTHER INFORMATION CONTACT section above, to register as a speaker.

Dated: July 26, 2018.
Michael D. Emerson,
Director, Marine Transportation Systems.

[FR Doc. 2018-16365 Filed 7-30-18; 8:45 am]

BILLING CODE 9110-04-P